DEPARTMENT OF ENERGY

Federal Energy Regulatory Commission

Combined Notice of Filings

Take notice that the Commission has received the following Natural Gas Pipeline Rate and Refund Report filings:

Filings Instituting Proceedings

Docket Numbers: RP26-484-000.

Applicants: Northern Natural Gas Company.

Description: 4(d) Rate Filing: 20260212 Negotiated Rate Filing to be effective 2/13/2026.

Filed Date: 2/12/26.

Accession Number: 20260212-5122.

Comment Date: 5 p.m. ET 2/24/26.

Docket Numbers: RP26-485-000.

Applicants: Northern Natural Gas Company.

Description: Northern Natural Gas Company submits report of the penalty and daily delivery variance charge (DDVC) revenues that have been credited to shippers.

Filed Date: 2/12/26.

Accession Number: 20260212-5123.

Comment Date: 5 p.m. ET 2/24/26.

Docket Numbers: RP26-486-000.

Applicants: NRG Business Marketing LLC, Armstrong Power, LLC, Doswell Limited Partnership, Helix Ironwood, LLC, Rockford Generation, LLC, Springdale Energy, LLC, Wallingford Energy, LLC.

Description: Joint Petition for Limited Waiver of Capacity Release Regulations, et al. of NRG Business Marketing LLC, et al.

Filed Date: 2/12/26.

Accession Number: 20260212-5164.

Comment Date: 5 p.m. ET 2/24/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP26-471-001.

Applicants: National Fuel Gas Supply Corporation.

Description: Tariff Amendment: New Rate Schedule Pal—Supplement to be effective 3/2/2026.

Filed Date: 2/12/26.

Accession Number: 20260212-5116.

Comment Date: 5 p.m. ET 2/24/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 13, 2026.
Carlos D. Clay,
Deputy Secretary.

[FR Doc. 2026-03319 Filed 2-19-26; 8:45 am]

BILLING CODE 6717-01-P